DEPARTMENT OF ENERGY

Notice of Request for Information (RFI) on Understanding Catalyst Production and Development Needs at National Laboratories

AGENCY: Bioenergy Technologies Office, Office of Energy Efficiency and Renewable Energy, Department of Energy.

ACTION: Request for information.

SUMMARY: The U.S. Department of Energy (DOE) invites public comment on its Request for Information (RFI) to understand research, capabilities and yet-to-be addressed challenges pertinent to production scale-up of catalysts for the conversion of biomass and waste streams. Additionally, through this RFI, the Bioenergy Technologies Office (BETO) seeks to understand enhancement capabilities of process development units at the National Laboratories in order to increase their impact.

DATES: Responses to the RFI must be received no later than September 14, 2018.

ADDRESSES: Interested parties are to submit comments electronically to CustomCatalystRFI@ee.doe.gov. Responses must be provided as attachments to an email. Include “Understanding Catalyst Production and Development RFI” as the subject of the email. It is recommended that attachments with file sizes exceeding 25MB be compressed (i.e., zipped) to ensure message delivery. Responses must be provided as a Microsoft Word (.docx) attachment to the email, and 12 point font, 1 inch margins. Only electronic responses will be accepted. The complete RFI document is located at https://eere-exchange.energy.gov/.

FOR FURTHER INFORMATION CONTACT: Questions may be addressed to Jim Spaeth, (720) 356-1784, or CustomCatalystRFI@ee.doe.gov. Further instructions can be found in the RFI document posted on EERE Exchange.

SUPPLEMENTARY INFORMATION: DOE posted on its website a RFI to solicit feedback from industry (including but not limited to research organizations, manufacturing organizations, catalyst manufacturers, and catalyst research consortia), academia, research laboratories, government agencies, and other biofuels and bioproducts stakeholders on “catalyst productions capability for biochemical and thermochemical processes.” Specifically, BETO seeks information to help identify and understand additional areas of research, capabilities, and yet-to be-addressed challenges pertinent to production scale-up challenges (typically in multi-kilogram quantities of novel catalysts used in technology development and engineering solutions for the efficient conversion of lignocellulosic, waste, and algal feedstocks to produce biofuels and bioproducts). The RFI [DE-FOA-00001951] is available at: https://eere-exchange.energy.gov/.

Confidential Business Information

Because information received in response to this RFI may be used to structure future programs, funding and/or otherwise be made available to the public, respondents are strongly advised to not include any information in their responses that might be considered business sensitive, proprietary, or otherwise confidential. If, however, a respondent chooses to submit business sensitive, proprietary, or otherwise confidential information, it must be clearly and conspicuously marked as such in the response as detailed in the RFI [DE-FOA-00001951] at: https://eere-exchange.energy.gov/.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC, on July 27, 2018.
Jonathan Male,
Director, Bioenergy Technologies Office.

[FR Doc. 2018-16577 Filed 8-1-18; 8:45 am]

BILLING CODE 6450-01-P